DEPARTMENT OF EDUCATION

[CFDA NO.: 84.314B]

Even Start Statewide Family Literacy Initiative Grants

AGENCY: Department of Education.

ACTION: Notice inviting State applications for new awards for fiscal year (FY) 2001 funds for Even Start Statewide Family Literacy Initiative grants.

Purpose of Competition: Even Start Statewide Family Literacy Initiative grants are awarded under section 1202(c) of the Elementary and Secondary Education Act of 1965 (ESEA) to States for planning and implementing Statewide family literacy initiatives, consistent with the Even Start Family Literacy Program (Part B of Title I of the ESEA). The purpose of Even Start is to help break the cycle of poverty and illiteracy by improving the educational opportunities of the Nation's low-income families by integrating early childhood education, adult literacy or adult basic education, and parenting education into a unified family literacy program. These initiatives coordinate and, where appropriate, integrate existing Federal, State, and local literacy resources to strengthen and expand family literacy services in the State.

Eligible Applicants: One State office or agency from each State, the District of Columbia, and Puerto Rico, provided that the applicant jurisdiction has not previously received an Even Start Statewide Family Literacy Initiative grant. (Section 1202(c)(1), ESEA.)

Applications Available: April 12, 2001.

Deadline for Transmittal of Applications: June 11, 2001.

Deadline for Intergovernmental Review: August 10, 2001.

Available Funds: $1,000,000.

Note: The Secretary intends to reserve about $30,000 from these funds to provide technical assistance to the Even Start Statewide Family Literacy Initiative grantees.

Matching and Use of Funds Requirements: A State receiving a grant for an Even Start Statewide Family Literacy Initiative must make available non-Federal contributions (cash or in-kind) in an amount at least equal to the Federal funds awarded under the grant. (Section 1202(c)(5), ESEA.) These non-Federal contributions may be from State or local resources, or both. Grantees may not use these grant funds for indirect costs, either as a direct charge or as part of the matching requirement. (Section 1204(b)(3), ESEA.)

Estimated Range of Awards: $75,000-$250,000 for each of two years.

Estimated Average Size of Awards: $194,000 for 5 grants.

Estimated Number of Awards: 3-5.

Note: This Department is not bound by any estimates in this notice.

Project Period: 24 months (comprised of two one-year grant award periods).

Applicable Regulations: The Education Department General Administrative Regulations (EDGAR) in 34 CFR parts 75, 77, 79, 80, 81, 82, 85, and 99.

Application, Priorities, and Selection Criteria: The Department will use the application entitled, “Notice inviting State applications for new awards for fiscal year (FY) 1999 funds for Even Start Statewide Family Literacy Initiative grants” published in the Federal Register on February 24, 1999, at 64 FR 9229. However, none of the priorities announced in that application (absolute priority and invitational priorities) apply to the present competition. Applicants in this present competition are not required to address any of those priorities. The Department will use the selection criteria in that same notice (published in the Federal Register on February 24, 1999, at 64 FR 9229) for the present competition.

SUPPLEMENTARY INFORMATION: States must conduct Even Start Statewide family literacy initiative activities through a consortium that includes representatives from at least the following programs at the State level—

• Title I of the ESEA, Part A (LEA grants);

• Even Start (Title I, Part B);

• Migrant Education Program (Title I, Part C);

• Comprehensive School Reform Demonstration Program (Title I, Part E, Section 1502);

• Head Start;

• Adult Education and Family Literacy Act; and

All other State-funded preschool programs and State-funded programs providing literacy services to adults.

The State must include in its application a plan developed by the consortium to use a portion of the State's resources (monetary or non-monetary, or both) from one or more of the programs required to be in this consortium, to strengthen and expand family literacy services in the State. (Section 1202(c)(2), ESEA.) The consortium also may include representatives from other Federal programs, such as programs for infants and toddlers with disabilities under Part C of the Individuals with Disabilities Act (IDEA), and programs for children with disabilities under Sections 611 and 619 of the IDEA.

The initiative must coordinate and integrate resources and activities from, at least, the following programs: Part A of Title I of the ESEA (LEA grants); Even Start (Title I, Part B); the Adult Education and Family Literacy Act; Head Start; and the State's block grant under Part A of Title IV of the Social Security Act for Temporary Assistance for Needy Families (TANF). (Section 1202(c)(1), ESEA.) The consortium also must coordinate its activities with the activities of the Reading Excellence Program (REP) reading and literacy partnership for the State established under section 2253(d) of the ESEA if the State educational agency receives a reading and literacy grant under the REP. (Section 1202(c)(2)(C), ESEA.) The consortium is encouraged to coordinate and integrate resources and appropriate activities from other programs as well, such as programs for infants and toddlers with disabilities and children with disabilities under the IDEA.

The initiative must base any activities relating to reading instruction, such as reading-related professional development or training activities for local Even Start family literacy program providers, on “scientifically based reading research” as that term is defined for the REP in Section 2252 of the ESEA. (Section 1202(c)(3), ESEA.) Under that definition, the term “scientifically based reading research”—

“(A) means the application of rigorous, systematic, and objective procedures to obtain valid knowledge relevant to reading development, reading instruction, and reading difficulties; and

(B) shall include research that—

(i) employs systematic, empirical methods that draw on observation or experiment;

(ii) involves rigorous data analyses that are adequate to test the stated hypotheses and justify the general conclusions drawn;

(iii) relies on measurements or observational methods that provide valid data across evaluators and observers and across multiple measurements and observations; and

(iv) has been accepted by a peer-reviewed journal or approved by a panel of independent experts through a comparably rigorous, objective, and scientific review.”

(Section 2252, ESEA.)

FOR APPLICATIONS AND FURTHER INFORMATION CONTACT: Tanielle Johnson, U.S. Department of Education, 400 Maryland Avenue SW, Washington, DC 20202-6132. Telephone: (202) 205-9588. or via Internet: Tanielle_Johnson@ed.gov

The application package also is available on the Department's Web site at: www.ed.gov/GrantApps/#84.314B.

If you use a telecommunications device for the deaf (TDD), you may call the Federal Information Relay Service (FIRS) at 1-800-877-8339. Individuals with disabilities may obtain this document in an alternative format (e.g., Braille, large print, audiotape, or computer diskette) on request to the contact person listed in the preceding paragraph.

Individuals with disabilities may obtain a copy of the application package in an alternative format by contacting that person. However, the Department is not able to reproduce in an alternative format the standard forms included in the application package.

Electronic Access to this Document

You may view this document, as well as all other Department of Education documents published in the Federal Register, in text or Adobe Portable Document Format (PDF) on the Internet at the following site: www.ed.gov/legislation/fedregister.

To use PDF, you must have Adobe Acrobat Reader, which is available free at that site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

Program Authority: 20 U.S.C. Section 6362(c).

Dated: April 6, 2001.
Thomas M. Corwin,
Acting Deputy Assistant, Secretary for Elementary and Secondary Education.

[FR Doc. 01-9065 Filed 4-11-01; 8:45 am]

BILLING CODE 4000-01-U